DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services at 68 FR 67461-67463, December 2, 2003, is amended to reflect the new functional statement for the Center for Substance Abuse Prevention (MP), Division of State and Community Systems Development (DSCSD). This amendment reflects changes to the Division title and structure within the Center. These structural changes will promote effective and efficient management of all its programs, including its new responsibility for administering the Drug-Free Communities grant program and Coalition Institute. The changes are as follows:

Section M.20, Functions is amended as follows:

(A) The functional statement for the Center for Substance Abuse Prevention (MP), Division of State and Community Systems Development (DSCSD) is replaced with the following:

Division of State and Community Assistance (MPG)

The Division of State and Community Assistance (DSCA) is responsible for carrying out the Center's responsibilities related to development of capacity for States and communities to provide and implement effective substance abuse prevention. As such the Division (1) promotes and establishes comprehensive, long-term State and community alcohol, tobacco, and other drug abuse prevention/intervention policies, programs, practices, and support activities; (2) plans, develops and administers nationwide programs to enhance comprehensive and effective State and community substance abuse prevention systems, drug prevention coalitions and related health promotion systems; (3) administers the prevention set-aside of the Substance Abuse Prevention and Treatment (SAPT) block grant; (4) monitors the application of SAMHSA's Strategic Prevention Framework within States and communities; (5) administers national discretionary grant programs, including the Strategic Prevention Framework State Incentive Grant (SPFSIG); (6) administers the Drug-Free Communities grant program and Coalition Institute; (7) provides technical assistance to States and communities directly, through support contracts, and the Centers for the Application of Prevention Technologies; (8) engages in and promotes interagency collaboration with both the public and private sectors at the Federal, State and local levels; (9) develops and integrates needs assessment and management information system data into State and community prevention systems for the improvement of planning efforts in substance abuse prevention; (10) administers the Synar regulations governing youth access to tobacco products; and (11) develops guidelines for state-of-the-art prevention programs and systems while conducting quality assurance activities, such as the block grant performance, as well as scientific analysis of various programs, proposals and products.

Section M.40, Delegations of Authority. All delegations and redelegations of authority to officers and employees of SAMHSA which were in effect immediately prior to the effective date of this reorganization shall continue in effect pending further redelegations, providing they are consistent with the reorganization.

These organizational changes are effective October 6, 2004.
Charles G. Curie,
Administrator.

[FR Doc. 04-22921 Filed 10-12-04; 8:45 am]

BILLING CODE 4160-01-P